DEPARTMENT OF HOMELAND SECURITY

Federal Emergency Management Agency

[Docket ID: FEMA-2014-0004; OMB No. 1660-0013]

Agency Information Collection Activities: Proposed Collection; Comment Request; Exemption of State-Owned Properties Under Self-Insurance Plan

AGENCY: Federal Emergency Management Agency, DHS.

ACTION: Notice.

SUMMARY: The Federal Emergency Management Agency, as part of its continuing effort to reduce paperwork and respondent burden, invites the general public and other Federal agencies to take this opportunity to comment on an extension, without change, of a currently approved information collection. In accordance with the Paperwork Reduction Act of 1995, this notice seeks comments concerning the collection of information necessary to allow States to request an exemption from maintaining flood insurance on State-owned structures.

DATES: Comments must be submitted on or before April 21, 2014.

ADDRESSES: To avoid duplicate submissions to the docket, please use only one of the following means to submit comments:

(1) Online. Submit comments at http://www.regulations.gov under Docket ID FEMA-2014-0004. Follow the instructions for submitting comments.

(2) Mail. Submit written comments to Docket Manager, Office of Chief Counsel, DHS/FEMA, 500 C Street SW., 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Contact Mary Ann Chang, Insurance Examiner, Federal Insurance and Mitigation Administration, DHS/FEMA, at (202) 646-2714 for further information. You may contact the Records Management Division for copies of the proposed collection of information at facsimile number (202) 646-3347 or email address: FEMA-Information-Collections-Management@dhs.gov.

SUPPLEMENTARY INFORMATION: The Flood Disaster Protection Act of 1973 (Act), as amended, 42 U.S.C. 4001 et seq., recognized that a reasonable method of sharing the nation's risk of flooding at the national level was required. The Act established a requirement to purchase flood insurance for properties at risk from a flood. It also further provided an exception to this requirement for State-owned properties that are covered under an adequate State policy of self-insurance. When States provide proof of this self-insurance, the designated property is not required to be covered by flood insurance. Title 44 CFR part 75 establishes the procedures by which a State may request exemption and also establishes standards with respect to the Administrator's determinations that a State's plan of self-insurance is adequate and satisfactory for the purpose of exempting the State from the requirement of purchasing flood insurance coverage, for State-owned structures and their contents. This applies to areas identified by the Administrator as A, AO, AH, A1-30, AE, AR, AR/A1-30, AR/AE, AR/AO, AR/AH, AR/A, A99, M, V, VO, V1-30, VE, and E zones, in which the sale of insurance has been made available.

Collection of Information

Title: Exemption of State-Owned Properties under Self-Insurance Plan.

Type of Information Collection: Extension, without change, of a currently approved information collection.

OMB Number: 1660-0013.

Form Titles and Numbers: None.

Abstract: States can request an exemption to the requirement of purchasing flood insurance on State-owned properties through the submission of sufficient supporting documentation certifying that the plan of self-insurance upon which the application for exemption is based meets or exceed the standards of coverage required for flood and flood-related hazards.

Affected Public: State, local, or Tribal Government.

Number of Respondents: 20.

Number of Responses: 20.

Estimated Total Annual Burden Hours: 5 hours.

Estimated Annualized Burden Hours and Costs
Type of respondent | Form name/form number | Number of respondents | Number of responses per respondent | Total number of responses | Avg. burden per response (in hours) | Total annual burden (in hours) | Avg. hourly wage rate | Total annual respondent cost
State, local or Tribal Government | Letter of Application/No Form | 20 | 1 | 20 | 5 | 100 | $82.96 | $8,296
Total |  | 20 |  | 20 |  | 100 |  | $8,296

• Note: The “Avg. Hourly Wage Rate” for each respondent includes a 1.4 multiplier to reflect a fully-loaded wage rate.

Estimated Cost: The estimated annual cost to respondents for the hour burden is $8,296. There are no annual costs to respondents operations and maintenance costs for technical services. There is no annual start-up or capital costs. The cost to the Federal Government is $5,355.

Comments

Comments may be submitted as indicated in the ADDRESSES caption above. Comments are solicited to (a) Evaluate whether the proposed data collection is necessary for the proper performance of the agency, including whether the information shall have practical utility; (b) Evaluate the accuracy of the agency's estimate of the burden of the proposed collection of information, including the validity of the methodology and assumptions used; (c) Enhance the quality, utility, and clarity of the information to be collected; and (d) Minimize the burden of the collection of information on those who are to respond, including through the use of appropriate automated, electronic, mechanical, or other technological collection techniques or other forms of information technology, e.g., permitting electronic submission of responses.

Dated: January 30, 2014.
Charlene D. Myrthil,
Director, Records Management Division, Mission Support Bureau, Federal Emergency Management Agency, Department of Homeland Security.

[FR Doc. 2014-03359 Filed 2-14-14; 8:45 am]

BILLING CODE 9110-11-P